NUCLEAR REGULATORY COMMISSION

[NRC-2017-0190]

Technical Basis for the Proposed Guidance in NUREG-0654/FEMA-REP-1, Section II.B

AGENCY: Nuclear Regulatory Commission.

ACTION: NUREG technical basis; request for comment.

SUMMARY: The U.S. Nuclear Regulatory Commission (NRC) is issuing for public comment a technical basis for the proposed guidance in NUREG-0654/FEMA-REP-1, Section II.B, “Emergency Response Organization.” This document is intended to support the proposed guidance by providing a technical basis.

DATES: Submit comments by October 11, 2017. Comments received after this date will be considered if it is practical to do so, but the Commission is able to ensure consideration only for comments received before this date.

ADDRESSES: You may submit comments by any of the following methods:

• Federal Rulemaking Web site: Go to http://www.regulations.gov and search for Docket ID NRC-2017-0190. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: TWFN-8-D36M, U.S. Nuclear Regulatory Commission, Washington, DC 20555-0001.

For additional direction on obtaining information and submitting comments, see “Obtaining Information and Submitting Comments” in the SUPPLEMENTARY INFORMATION section of this document.

FOR FURTHER INFORMATION CONTACT: Don A. Johnson, Office of Nuclear Security and Incident Response, U.S. Nuclear Regulatory Commission, Washington, DC 20555-0001; telephone: 301-287-9230; email: Don.Johnson@nrc.gov.

SUPPLEMENTARY INFORMATION:

I. Obtaining Information and Submitting Comments

A. Obtaining Information

Please refer to Docket ID NRC-2017-0190 when contacting the NRC about the availability of information for this action. You may obtain publicly-available information related to this action by any of the following methods:

• Federal Rulemaking Web site: Go to http://www.regulations.gov and search for Docket ID NRC-2017-0190.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The technical basis for the proposed guidance in NUREG-0654/FEMA-REP-1, Section II.B, “Emergency Response Organization,” is in ADAMS under Accession No. ML16117A427.

• NRC's PDR: You may examine and purchase copies of public documents at the NRC's PDR, Room O1-F21, One White Flint North, 11555 Rockville Pike, Rockville, Maryland 20852.

B. Submitting Comments

Please include Docket ID NRC-2017-0190 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

The NRC is requesting comment on this draft technical basis. This document is intended to provide additional information for the proposed guidance in NUREG-0654/FEMA-REP-1, Section II.B, “Emergency Response Organization.”

Dated at Rockville, Maryland, this 5th day of September 2017.
For the Nuclear Regulatory Commission.
Bo M. Pham,
Acting Deputy Director, Division of Preparedness and Response, Office of Nuclear Security and Incident Response.

[FR Doc. 2017-19093 Filed 9-8-17; 8:45 am]

BILLING CODE 7590-01-P